DEPARTMENT OF ENERGY

Federal Energy Regulatory Commission

[Docket No. RP03-366-000]

Great Lakes Gas Transmission Limited Partnership; Notice of Tariff Filing

May 2, 2003.

Take notice that on April 30, 2003, Great Lakes Gas Transmission Limited

Partnership (Great Lakes) tendered for filing as part of its FERC Gas Tariff, Second Revised Volume No. 1, the following tariff sheets, proposed to become effective January 1, 2003:

Eighth Revised Sheet No. 3

Sixth Revised Sheet No. 3A

Seventh Revised Sheet No. 3B

Sixth Revised Sheet No. 3C

Great Lakes states that the tariff sheets listed above are being filed to revise the system and zone maps included in Great Lakes' tariff pursuant to section 154.106(c) of the Commission's regulations. The revisions reflect the removal of the Summerfield Meter Station from the eastern zone of Great Lakes' system, pursuant to the abandonment authorized in Docket No. CP02-49-000, and changes to certain pipeline company entity names that appear in the system and all zone map legends.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 12, 2003.

Magalie R. Salas,
Secretary.

[FR Doc. 03-11515 Filed 5-7-03; 8:45 am]

BILLING CODE 6717-01-P